DEPARTMENT OF HOMELAND SECURITY

U.S. Citizenship and Immigration Services

[CIS No. 2570-15; DHS Docket No. USCIS-2015-0005]

RIN 1615-ZB41

Designation of the Republic of Yemen for Temporary Protected Status

AGENCY: U.S. Citizenship and Immigration Services, Department of Homeland Security.

ACTION: Notice.

SUMMARY: Through this Notice, the Department of Homeland Security (DHS) announces that the Secretary of Homeland Security (Secretary) has designated the Republic of Yemen (Yemen) for Temporary Protected Status (TPS) for a period of 18 months, effective September 3, 2015, through March 3, 2017. Under section 244(b)(1)(A) of the Immigration and Nationality Act (INA), 8 U.S.C. 1254a(b)(1)(A), the Secretary is authorized to designate a foreign state (or any part thereof) for TPS upon finding that there is an ongoing armed conflict within the foreign state and, due to such conflict, requiring the return of nationals of the state would pose a serious threat to their personal safety.

This designation allows eligible Yemeni nationals (and aliens having no nationality who last habitually resided in Yemen) who have continuously resided in the United States since September 3, 2015, and have been continuously physically present in the United States since September 3, 2015 to be granted TPS. This Notice also describes the other eligibility criteria applicants must meet.

Individuals who believe they may qualify for TPS under this designation may apply within the 180-day registration period that begins on September 3, 2015, and ends on March 1, 2016. They may also apply for Employment Authorization Documents (EAD) and for travel authorization. Through this Notice, DHS also sets forth the procedures for nationals of Yemen (or aliens having no nationality who last habitually resided in Yemen) to apply for TPS, EADs, and travel authorization with U.S. Citizenship and Immigration Services (USCIS).

DATES: This designation of Yemen for TPS is effective on September 3, 2015, and will remain in effect through March 3, 2017. The 180-day registration period for eligible individuals to submit TPS applications begins September 3, 2015, and will remain in effect through March 1, 2016.

FOR FURTHER INFORMATION CONTACT:

• For further information on TPS, including guidance on the application process and additional information on eligibility, please visit the USCIS TPS Web page at http://www.uscis.gov/tps. You can find specific information about Yemen's TPS designation by selecting “TPS Designated Country: Yemen” from the menu on the left of the TPS Web page.

• You can also contact the TPS Operations Program Manager at the Waivers and Temporary Services Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

BIA—Board of Immigration Appeals

DHS—Department of Homeland Security

EAD—Employment Authorization Document

FNC—Final Nonconfirmation

Government—U.S. Government

IJ—Immigration Judge

INA—Immigration and Nationality Act

OSC—U.S. Department of Justice, Office of Special Counsel for Immigration-Related Unfair Employment Practices

SAVE—USCIS Systematic Alien Verification for Entitlements Program

Secretary—Secretary of Homeland Security

TNC—Tentative Nonconfirmation

TPS—Temporary Protected Status

TTY—Text Telephone

UN—United Nations

USCIS—U.S. Citizenship and Immigration Services

What is Temporary Protected Status (TPS)?

• TPS is a temporary immigration status granted to eligible nationals of a country designated for TPS under the INA, or to eligible persons without nationality who last habitually resided in the designated country.

• During the TPS designation period, TPS beneficiaries are eligible to remain in the United States, may not be removed, and are authorized to work and to obtain EADs, so long as they continue to meet the requirements of TPS.

• TPS beneficiaries may be granted travel authorization as a matter of discretion.

• The granting of TPS does not result in or lead to lawful permanent resident status.

• To qualify for TPS, beneficiaries must meet the eligibility standards at INA section 244(c)(2), 8 U.S.C. 1254a(c)(2).

• When the Secretary terminates a country's TPS designation, beneficiaries return to the same immigration status they maintained before TPS, if any (unless that status has since expired or been terminated), or to any other lawfully obtained immigration status they received while registered for TPS.

What authority does the Secretary have to designate Yemen for TPS?

Section 244(b)(1) of the INA, 8 U.S.C. 1254a(b)(1), authorizes the Secretary, after consultation with appropriate U.S. Government (Government) agencies, to designate a foreign state (or part thereof) for TPS if the Secretary finds that certain country conditions exist.¹ The Secretary can designate a foreign state for TPS if the Secretary determines that one or more of three bases exist. One basis is if the Secretary finds that “. . . that there is an ongoing armed conflict within the state and, due to such conflict, requiring the return of aliens who are nationals of that state to that state (or to the part of the state) would pose a serious threat to their personal safety . . .” INA section 244(b)(1)(A), 8 U.S.C. 1254a(b)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

Following the designation of a foreign state for TPS, the Secretary may then grant TPS to eligible nationals of that foreign state (or eligible aliens having no nationality who last habitually resided in that state). See INA section 244(a)(1)(A), 8 U.S.C. 1254a(a)(1)(A). Applicants must demonstrate that they satisfy all eligibility criteria, including that they have been “continuously physically present” in the United States since the effective date of the designation, which is either the date of the Federal Register Notice announcing the designation or such later date as the Secretary may determine, and that they have “continuously resided” in the United States since such date as the Secretary may designate. See INA sections 244(a)(1)(A), (b)(2)(A), (c)(1)(A)(i-ii); 8 U.S.C. 1254a(a)(1)(A), (b)(2)(A), (c)(1)(A)(i-ii).

Why is the Secretary designating Yemen for TPS through March 3, 2017?

The Secretary has determined, after consultation with the Department of State and other appropriate Government agencies, that there is an ongoing armed conflict within Yemen and, due to such conflict, requiring the return of Yemeni nationals to Yemen would pose a serious threat to their personal safety.

In July 2014, the Houthis, a northern opposition group, began a violent territorial expansion across Yemen. The Houthis took over the capital, Sana'a, in September 2014, and placed the President, Prime Minister, and cabinet officials under house arrest in January 2015. President Abdo Rabo Mansur Hadi left Sana'a for Yemen's southern port city of Aden in February 2015 to resume his presidential duties. As the Houthis continued their military campaign, however, they eventually closed in on Aden and by the end of March 2015, President Hadi and many other members of the government relocated to the Kingdom of Saudi Arabia (Saudi Arabia).

On March 26, 2015, a coalition of more than ten countries, led by Saudi Arabia and at the request of President Hadi, initiated air strikes against the Houthis. Air strikes have occurred across the country, but have been concentrated in Sa'dah, Hajjah, Sana'a, Taiz, Marib, Al Dhale'e, and Aden. Houthi ground forces simultaneously engaged in fierce battles in Aden and Marib against local ethnic groups and pro-government fighters. The conflict has affected 21 out of Yemen's 22 governorates.

The conflict has caused an acute and rapidly deteriorating humanitarian crisis. The airstrikes and ground fighting have killed, wounded, and displaced noncombatants and destroyed and damaged hospitals, schools, roads, airports, the electric power grid, the water supply, and other critical infrastructure. The humanitarian situation is compounded by access constraints. Relief efforts and supplies have been hindered by the limited capacity of airports, seaports, and roadblocks. Furthermore, ongoing violence and airstrikes are restricting the movement of civilians to safe areas and restricting their ability to receive needed basic services and supplies.

While the exact number of housing units that have been destroyed or damaged by the airstrikes and ground fighting has not been determined, the United Nations (UN) is reporting that approximately 42,000 people, in 7,000 households, were identified as needing shelter as a direct result of the conflict since March 2015. The UN has reported that nearly 1.3 million people in Yemen have become internally displaced since the start of the conflict.

Movement through or around the conflict zones is fraught with extreme danger. A full assessment by those reporting on the ground has been hindered by security concerns and infrastructure damage, but the UN has reported that as of July 2015, there have been approximately 3,700 registered deaths and over 18,000 registered injuries attributed to the conflict.

Because Yemen relies on imports for 90 percent of its food, the combination of severely reduced imports, low food stocks, and a shortage of fuel has increased the number of people experiencing food insecurity to 12.9 million, nearly half of the total population of Yemen, including 5 million who are classified as severely food insecure. Due to the conflict, 470,000 children under the age of 5 have lost access to nutrition services previously provided to them through 158 Outpatient Therapeutic Feeding Programs.

The impact on key logistical and civilian infrastructure across Yemen from the airstrikes and ground fighting has been devastating. Yemen has suffered heavy damage to its airports, harbors, bridges and roads, which presents significant obstacles to relief efforts. Damage to health facilities has also been substantial and the UN has reported that, as a result of the fighting, at least five hospitals were destroyed or suffered catastrophic damage in Sana'a, Al Dhale'e, and Aden. Nearly 3,600 schools remain closed due to insecurity, with over 330 schools directly affected by the conflict. Of these, 86 schools were reported damaged due to airstrikes or armed confrontations and a further 246 were reported as occupied by internally displaced persons.

The destruction and closure of numerous hospitals and medical facilities is resulting in increased fatalities, including among women, due to miscarriages and a lack of delivery and postnatal care. Hospitals that remain open are operating at limited capacity and are unable to cope with the scale of needs, while others have shut down due to insecurity and a lack of fuel, staff and supplies. Internally displaced persons across Yemen indicate that among their most pressing needs are medicine and treatment for malaria, diarrhea, malnutrition, unspecified chronic diseases, and respiratory diseases.

Based upon this review and after consultation with appropriate Government agencies, the Secretary has determined that:

• There is an ongoing armed conflict in Yemen and, due to such conflict, requiring the return of Yemeni nationals to Yemen would pose a serious threat to their personal safety. See INA section 244(b)(1)(A), 8 U.S.C. 1254a(b)(1)(A);

• The designation of Yemen for TPS will be for an 18-month period from September 3, 2015, through March 3, 2017. See INA section 244(b)(2), 8 U.S.C. 1254a(b)(2);

• The date by which applicants for TPS under the designation of Yemen must demonstrate that they have continuously resided in the United States is September 3, 2015. See INA section 244(c)(1)(A)(ii), 8 U.S.C. 1254a(c)(1)(A)(ii);

• The date by which applicants for TPS under the designation of Yemen must demonstrate that they have been continuously physically present in the United States is September 3, 2015, the effective date of this designation of Yemen for TPS. INA sections 244(b)(2)(A), (c)(1)(A)(i); 8 U.S.C. 1254a(b)(2)(A), (c)(1)(A)(i); and

• An estimated 500 to 2,000 nationals of Yemen (and persons without nationality who last habitually resided in Yemen) are (or are likely to become) eligible for TPS under this designation. This estimate is based on the total number of Yemeni nationals believed to be in the United States in a nonimmigrant status or without lawful immigration status.

Notice of the Designation of Yemen for TPS

By the authority vested in me as Secretary under INA section 244, 8 U.S.C. 1254a, after consultation with the appropriate Government agencies, I designate Yemen for TPS under INA section 244(b)(1)(A), 8 U.S.C. 1254a(b)(1)(A), for a period of 18 months from September 3, 2015, through March 3, 2017.

Jeh Charles Johnson,
Secretary.

Required Application Forms and Application Fees To Register for TPS

To register for TPS for Yemen, an applicant must submit each of the following two applications:

1. Application for Temporary Protected Status (Form I-821) with the form fee; and

2. Application for Employment Authorization (Form I-765).

For administrative purposes, an applicant must submit an Application for Employment Authorization (Form I-765) even if no Employment Authorization Document (EAD) is requested.

If you want an EAD you must pay the Application for Employment Authorization (Form I-765) fee only if you are age 14 through 65.

No fee for Application for Employment Authorization (Form I-765) is required if you are not requesting an EAD with an initial TPS application. Additionally, no fee is required if you are requesting an EAD and you are under the age of 14 or over the age of 65.

You must submit both completed application forms together. If you are unable to pay the required fees, you may apply for a waiver of these application fees and/or the biometrics services fee described below by completing a Request for Fee Waiver (Form I-912), or submitting a personal letter requesting a fee waiver, and providing satisfactory supporting documentation. For more information on the application forms and fees for TPS, please visit the USCIS TPS Web page at http://www.uscis.gov/tps. Fees for Application for Temporary Protected Status (Form I-821), Application for Employment Authorization (Form I-765), and biometric services are also described in 8 CFR 103.7(b).

Biometric Services Fee

Biometrics (such as fingerprints) are required for all applicants 14 years of age or older. Those applicants must submit a biometric services fee. As previously stated, if you are unable to pay for the biometric services fee, you may request a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-Filing a TPS Application After Receiving a Denial of a Fee Waiver Request

If you request a fee waiver when filing your TPS and EAD application forms and your request is denied, you may refile your application packet with the correct fees before the filing deadline of March 1, 2016. If you attempt to submit your application with a fee waiver request before the initial filing deadline, but you receive your application back with the USCIS fee waiver denial, and there are fewer than 45 days before the filing deadline (or the deadline has passed), you may still refile your application within the 45-day period after the date on the USCIS fee waiver denial notice. You must include the correct fees, or file a new fee waiver request. Your application will not be rejected even if the deadline has passed, provided it is mailed within those 45 days and all other required information for the application is included. Please be aware that if you re-file your TPS application packet with a new fee waiver request after the deadline based on this guidance and that new fee waiver request is denied, you cannot re-file again. Note: Alternatively, you may pay the TPS application fee and biometrics fee (if age 14 or older) but wait to request an EAD and pay the EAD application fee after USCIS grants your TPS application.

Mailing Information

Mail your application for TPS to the proper address in Table 1.

Table 1—Mailing Addresses
If you: | Then mail your application to:
Would like to send your application by U.S. Postal Service | USCIS, P.O. Box 7555, Chicago, IL 60680.
Would like to send your application by non-U.S. Postal Service courier | Attn: Yemen TPS, 131 S. Dearborn 3rd Floor, Chicago, IL 60603.

If you were granted TPS by an Immigration Judge (IJ) or the Board of Immigration Appeals (BIA), and you wish to request an EAD, please mail your application to the appropriate mailing address in Table 1. After you submit your EAD application and receive a USCIS receipt number, please send an email to the Service Center handling your application. The email should include the receipt number and state that you submitted a request for an EAD based on an IJ/BIA grant of TPS. This will aid in the verification of your grant and processing of your application, as USCIS may not have received records of your grant of TPS by either an IJ or the BIA. To obtain additional information, including the email address of the appropriate Service Center, you may go to the USCIS TPS Web page at http://www.uscis.gov/tps.

E-Filing

You cannot electronically file your application packet when applying for initial registration for TPS. Please mail your application packet to the mailing address listed in Table 1.

Supporting Documents

What type of basic supporting documentation must I submit?

To meet the basic eligibility requirements for TPS, you must submit evidence that you:

• Are a national of Yemen or an alien having no nationality who last habitually resided in Yemen. Such documents may include a copy of your passport if available, other documentation issued by the Government of Yemen showing your nationality (e.g., national identity card, official travel documentation issued by the Government of Yemen), and/or your birth certificate with English translation accompanied by photo identification. USCIS will also consider certain forms of secondary evidence supporting your Yemeni nationality. If the evidence presented is insufficient for USCIS to make a determination as to your nationality, USCIS may request additional evidence. If you cannot provide a passport, birth certificate with photo identification, or a national identity document with your photo or fingerprint, you must submit an affidavit showing proof of your unsuccessful efforts to obtain such documents and affirming that you are a national of Yemen. However, please be aware that an interview with an immigration officer will be required if you do not present any documentary proof of identity or nationality or if USCIS otherwise requests a personal appearance. See 8 CFR 103.2(b)(9), 244.9(a)(1);

• Have continuously resided in the United States since September 3, 2015. See INA section 244(c)(1)(A)(ii); 8 U.S.C. 1254a(c)(1)(A)(ii); 8 CFR 244.9(a)(2); and

• Have been continuously physically present in the United States since September 3, 2015, the effective date of the designation of Yemen for TPS. See INA sections 244(b)(2)(A), (c)(1)(A)(i); 8 U.S.C. 1254a(b)(2)(A), (c)(1)(A)(i).

You must also submit two color passport-style photographs of yourself. The filing instructions on the Application for Temporary Protected Status (Form I-821) list all the documents needed to establish basic eligibility for TPS. You may also find information on the acceptable documentation and other requirements for applying for TPS on the USCIS Web site at www.uscis.gov/tps under “TPS Designated Country: Yemen.”

Do I need to submit additional supporting documentation?

If one or more of the questions listed in Part 4, Question 2 of the Application for Temporary Protected Status (Form I-821) applies to you, then you must submit an explanation on a separate sheet(s) of paper and/or additional documentation. Depending on the nature of the question(s) you are addressing, additional documentation alone may suffice, but usually a written explanation will also be needed.

Employment Authorization Document (EAD)

How can I obtain information on the status of my EAD request?

To obtain case status information about your TPS application, including the status of a request for an EAD, you can check Case Status Online, available at the USCIS Web site at http://www.uscis.gov, or call the USCIS National Customer Service Center at 800-375-5283 (TTY 800-767-1833). If your Application for Employment Authorization (Form I-765) has been pending for more than 90 days, and you still need assistance, you may request an EAD inquiry appointment with USCIS by using the InfoPass system at https://infopass.uscis.gov. However, we strongly encourage you first to check Case Status Online or call the USCIS National Customer Service Center for assistance before making an InfoPass appointment.

When hired, what documentation may I show to my employer as proof of employment authorization and identity when completing Employment Eligibility Verification (Form I-9)?

You can find the acceptable document choices on the “Lists of Acceptable Documents” for Employment Eligibility Verification (Form I-9). You can find additional detailed information on the USCIS I-9 Central Web page at http://www.uscis.gov/I-9Central. Employers are required to verify the identity and employment authorization of all new employees by using the Employment Eligibility Verification (Form I-9). Within 3 days of hire, an employee must present proof of identity and employment authorization to his or her employer.

You may present any document from List A (reflecting both your identity and employment authorization), or one document from List B (reflecting identity) together with one document from List C (reflecting employment authorization). As described in the Employment Eligibility Verification (Form I-9) Instructions, you may present an acceptable receipt for List A, List B, or List C documents including the receipt for the application for replacement of a lost, stolen or damaged document. A receipt for the application for an initial or renewal employment authorization is not an acceptable receipt. An EAD is an acceptable document under “List A.” Employers may not reject a document based on a future expiration date.

Can my employer require that I produce any other documentation to prove my current TPS status, such as proof of my Yemeni citizenship or proof that I have registered for TPS?

No. When completing the Employment Eligibility Verification (Form I-9), including re-verifying employment authorization, employers must accept any documentation that appears on the “Lists of Acceptable Documents” for Employment Eligibility Verification (Form I-9) that reasonably appears to be genuine and that relates to you, or an acceptable List A, List B, or List C receipt. Employers may not request documentation that does not appear on the “Lists of Acceptable Documents.” Therefore, employers may not request proof of Yemeni citizenship or proof of TPS registration when completing the Employment Eligibility Verification (Form I-9) for new hires or reverifying the employment authorization of current employees. If presented with EADs that are unexpired on their face, employers should accept such EADs as valid “List A” documents so long as the EADs reasonably appear to be genuine and to relate to the employee. Refer to the “Note to All Employees” section for important information about your rights if your employer rejects lawful documentation, requires additional documentation, or otherwise discriminates against you because of your citizenship or immigration status, or national origin.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process, employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY 877-875-6028) or email at I-9Central@dhs.gov. Calls are accepted in English and many other languages. Employees or applicants may also call the U.S. Department of Justice, Office of Special Counsel for Immigration-Related Unfair Employment Practices (OSC) Worker Information Hotline at 800-255-7688 (TTY 800-237-2515) for information regarding employment discrimination based upon citizenship status, immigration status, or national origin, or for information regarding discrimination related to Employment Eligibility Verification (Form I-9) and E-Verify. The OSC Worker Information Hotline provides language interpretation in numerous languages.

To comply with the law, employers must accept any document or combination of documents from the Lists of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from Federal or state government records.

Employers may not terminate, suspend, delay training, withhold pay, lower pay or take any adverse action against an employee based on the employee's decision to contest a TNC or because the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). An employee who believes he or she was discriminated against by an employer in the E-Verify process based on citizenship or immigration status, or based on national origin, may contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary and/or show you are authorized to work based on TPS. Examples are:

(1) Your EAD that has a valid expiration date;

(2) A copy of your Notice of Action (Form I-797C) showing approval for TPS, if you receive one from USCIS.

Check with the government agency regarding which document(s) the agency will accept. You may also provide the agency with a copy of this Federal Register Notice.

Some benefit-granting agencies use the USCIS Systematic Alien Verification for Entitlements Program (SAVE) to confirm the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “How to Correct Your Records” from the menu on the right.

[FR Doc. 2015-21881 Filed 9-2-15; 8:45 am]

BILLING CODE 9111-97-P